DEPARTMENT OF COMMERCE

National Oceanic and Atmospheric Administration

50 CFR Part 660

[Docket No. 140904754-5188-02]

RIN 0648-BF92

Magnuson-Stevens Act Provisions; Fisheries off West Coast States; Biennial Specifications and Management Measures; Inseason Adjustments

AGENCY: National Marine Fisheries Service (NMFS), National Oceanic and Atmospheric Administration (NOAA), Commerce.

ACTION: Final rule; inseason adjustments to biennial groundfish management measures.

SUMMARY: This final rule announces an inseason change to management measures in the Pacific Coast groundfish fishery. This action, which is authorized by the Pacific Coast Groundfish Fishery Management Plan (PCFMP) and the Northern Pacific Halibut Act, implements changes to the incidental retention allowance for halibut in the limited entry fixed gear sablefish primary fishery.

DATES: Effective 1200 hours (local time) March 25, 2016.

FOR FURTHER INFORMATION CONTACT: Sarah Williams (West Coast Region, NMFS), phone: 206-526-4646, sarah.williams@noaa.gov

SUPPLEMENTARY INFORMATION:

Electronic Access

This final rule is accessible via the Internet at the Office of the Federal Register Web site at http://www.gpo.gov/fdsys/search/home.action. Background information and documents are available at the Pacific Fishery Management Council's Web site at http://www.pcouncil.org/.

Background

The PCGFMP and its implementing regulations at title 50 in the Code of Federal Regulations (CFR), part 660, subparts C through G, regulate fishing for over 90 species of groundfish off the coasts of Washington, Oregon, and California. Groundfish specifications and management measures are developed by the Pacific Fishery Management Council (Council), and are implemented by NMFS.

The International Pacific Halibut Commission (IPHC) establishes total allowable catch (TAC) amounts for Pacific halibut each year in January. Under the authority of the Northern Pacific Halibut Act, and implementing regulations at 50 CFR 300.63, a Catch Sharing Plan for IPHC Area 2A (waters off the U.S. West Coast), developed by the Council and implemented by the Secretary, allocates portions of the annual TAC among fisheries off Washington, Oregon, and California.

Pacific halibut is generally a prohibited species for vessels fishing in Pacific coast groundfish fisheries, unless explicitly allowed in groundfish regulations and authorized by the Pacific halibut Catch Sharing Plan.

In years where the Pacific halibut TAC is above 900,000 lb (408.2 mt), the Catch Sharing Plan allows the limited entry fixed gear sablefish primary fishery an incidental total catch allowance for Pacific halibut north of Pt. Chehalis, WA (46°53.30′ N. lat.). The 2016 Pacific halibut Area 2A TAC is 1,140,000 lb (517.1 mt). Consistent with the provisions of the Catch Sharing Plan, the limited entry fixed gear sablefish primary fishery is allowed an incidental total catch limit of 49,686 lb (22.54 mt) for 2016.

At its March 2016 meeting, the Council considered the new 2016 total allowable catch (TAC) for Pacific halibut in Area 2A (waters off the U.S. West coast), and the total catch of Pacific halibut in the limited entry fixed gear sablefish primary fishery in recent years. Because the 2016 allocation of halibut to the sablefish primary fishery is similar to landings in 2007 and 2008, the Council recommended a landing restriction similar to the one approved in those years of 110 lbs of halibut for every 1,000 lbs of sablefish and up to two additional halibut in excess of the ratio. NMFS notes that, given the increased allocation in 2016, liberalizing the incidental catch restrictions is anticipated to allow total catch of Pacific halibut to approach, but not exceed, the 2016 allocation for the sablefish primary fishery.

In order to allow incidental halibut catch in the sablefish primary fishery to begin on April 1, the Council recommended and NMFS is implementing incidental halibut retention regulations at 50 CFR 660.231(b)(3)(iv) to allow the catch ratio of “110 lb (50 kg) dressed weight of halibut for every 1,000 pounds (454 kg) dressed weight of sablefish landed and up to 2 additional halibut in excess of the 110-pounds-per-1,000-pound ratio per landing” to be in effect “From April 1 through October 31.”

The retention limits for halibut were not revised as part of the 2015-2016 harvest specifications and management measures because the Pacific halibut TAC is developed each year based on the most current scientific information, and the TAC for 2016 was not determined until the IPHC meeting in January, 2016.

Classification

This final rule makes routine inseason adjustments to groundfish fishery management measures, based on the best available information, consistent with the PCGFMP and its implementing regulations. The adjustment to the halibut incidental catch restrictions in the limited entry fixed gear sablefish primary fishery is taken under the authority of the Magnuson Stevens Act, based on actions taken under the Northern Pacific Halibut Act and implementing regulations, and is consistent with the approved Catch Sharing Plan.

This action is taken under the authority of 50 CFR 660.60(c) and is exempt from review under Executive Order 12866.

The aggregate data upon which these actions are based are available for public inspection at the Office of the Administrator, West Coast Region, NMFS, during business hours.

For the following reasons, NMFS finds good cause to waive prior public notice and comment on the revisions to groundfish management measures under 5 U.S.C. 553(b) because notice and comment would be impracticable and contrary to the public interest. Also, for the same reasons, NMFS finds good cause to waive the 30-day delay in effectiveness pursuant to 5 U.S.C. 553(d)(3), so that this final rule may become effective March 25, 2016.

As described above, this inseason action is based on information that became available very recently. The changes to the incidental halibut retention in the sablefish primary fishery north of Pt. Chehalis, WA (46°53.30′ N. lat.), and the subsequent proposed management measure changes are based in part on decisions made by the IPHC at its January 2016 meeting. At that meeting, the IPHC determined the 2016 halibut TAC based on the most current scientific information regarding the status of the halibut stock. Based on this action, the Council made its final recommendations at its March 9-14, 2016 meeting. The Council considered the public comments on this matter and recommended that these changes be implemented by April 1, 2016. There was not sufficient time after that meeting to complete notice and comment rulemaking before these changes need to be in effect. For the actions to be implemented in this final rule, affording the time necessary for prior notice and opportunity for public comment would prevent NMFS from managing fisheries using the best available science to approach, without exceeding, allocations in accordance with the PCGFMP, the Northern Pacific Halibut Act, and other applicable laws. The adjustments to management measures in this document affect commercial fisheries off Washington State. These adjustments to management measures must be implemented in a timely manner, by April 1, 2016 or as quickly as possible thereafter, to allow incidental catch of halibut in the sablefish primary fishery, reducing regulatory discards, while keeping total catch below the 2016 halibut Area 2A allocation.

No aspect of this action is controversial, and changes of this nature were anticipated in the biennial harvest specifications and management measures established for 2015-2016.

Accordingly, for the reasons stated above, NMFS finds good cause to waive prior notice and comment and to waive the delay in effectiveness.

List of Subjects in 50 CFR Part 660

Fisheries, Fishing, Indian Fisheries.

Dated: March 23, 3016.
Emily H. Menashes,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. In § 660.231, revise paragraph (b)(3)(iv) to read as follows:

§ 660.231 Limited entry fixed gear sablefish primary fishery.

* * * * *

(b) * * *

(3) * * *

(iv) Incidental halibut retention north of Pt. Chehalis, WA (46°53.30′ N. lat.). From April 1 through October 31, vessels authorized to participate in the sablefish primary fishery, licensed by the International Pacific Halibut Commission for commercial fishing in Area 2A (waters off Washington, Oregon, California), and fishing with longline gear north of Pt. Chehalis, WA (46°53.30′ N. lat.) may possess and land up to the following cumulative limits: 110 lb (50 kg) dressed weight of halibut for every 1,000 pounds (454 kg) dressed weight of sablefish landed and up to 2 additional halibut in excess of the 110-pounds-per-1,000-pound ratio per landing. “Dressed” halibut in this area means halibut landed eviscerated with their heads on. Halibut taken and retained in the sablefish primary fishery north of Pt. Chehalis may only be landed north of Pt. Chehalis and may not be possessed or landed south of Pt. Chehalis

* * * * *

[FR Doc. 2016-06908 Filed 3-25-16; 8:45 am]

BILLING CODE 3510-22-P